ENVIRONMENTAL PROTECTION AGENCY

[FRL-6966-8]

Center Star Manufacturing Superfund Site Notice of Prospective Purchaser Agreement

AGENCY: Environmental Protection Agency.

ACTION: Notice of Proposed Settlement.

SUMMARY: Under the Comprehensive Environmental Response, Compensation and Liability Act (CERCLA), the United States Environmental Protection Agency (EPA) proposes to enter into a “Prospective Purchaser Agreement” (PPA.) with the purchaser of the Center Star Manufacturing Superfund Site (“Site”) located in Oxford, Calhous County, Alabama, at a judicial foreclosure sale. EPA will consider public comments on the proposed Prospective Purchaser Agreement for thirty days. EPA may withdraw from or modify the proposed Prospective Purchaser Agreement should such comments disclose facts or considerations which indicate the proposed Prospective Purchaser Agreement is inappropriate, improper, or inadequate. Copies of the proposed Prospective Purchaser Agreement are available from: Ms. Paula V. Batchelor, U.S. Environmental Protection Agency, Region IV, Waste Management Division, 61 Forsyth Street, S.W., Atlanta, Georgia 30303, (404) 562-8887.

Written comment may be submitted to Mrs. Ann Mayweather-Boyd at the above address within 30 days of the date of publication.

Dated: March 29, 2001.
Franklin E. Hill,
Chief, CERCLA Program Services Branch, Waste Management Division.

[FR Doc. 01-9363 Filed 4-13-01; 8:45 am]

BILLING CODE 6560-50-P